FEDERAL COMMUNICATIONS COMMISSION

47 CFR Parts 52 and 64

[CC Docket No. 92-105; FCC 00-256]

The Use of N11 Codes and Other Abbreviated Dialing Arrangements

AGENCY: Federal Communications Commission.

ACTION: Final rule.

SUMMARY: In this document the Federal Communications Commission (FCC or Commission) granted petitions filed by the U.S. Department of Transportation (DOT), and by Information and Referral providers seeking nationwide assignment of abbreviated dialing codes. The assigned dialing codes will be used for access to traveler information services and for access to community information and referral services, respectively.

DATE: Effective February 9, 2001.

ADDRESSES: Federal Communications Commission, Secretary, 445 12th Street, SW, Room TW-B204F, Washington, DC 20554.

FOR FURTHER INFORMATION CONTACT: Cheryl Callahan at (202) 418-2320, fax (202) 418-2345, TTY (202) 418-0484, or ccallaha@fcc.gov. The address is: Network Services Division, Common Carrier Bureau, Federal Communications Commission, The Portals, 445 12th Street, SW., Suite 6-A320, Washington, DC 20554.

SUPPLEMENTARY INFORMATION: This is a summary of the Commission's Third Report and Order and Order on Reconsideration in CC Docket No. 92-105, FCC 00-256 (Third Report and Order), in the matter of the use of N11 Codes and other abbreviated dialing arrangements, adopted July 21, 2000, and released July 31, 2000. The full text of the item is available for inspection and copying during the weekday hours of 9 a.m. to 4:30 p.m. in the Commission's Reference Center, Room CY-A257, 445 12th Street, SW., Washington, DC 20554, or copies may be purchased from the Commission's duplicating contractor, ITS, Inc., 445 12th Street, SW, Suite CY-B400, Washington, DC 20554, phone (202) 857-3800. This Order contains no new or modified information collections subject to the Paperwork Reduction Act of 1995, Public Law 104-13.

Synopsis of the Report and Order

1. N11 codes are abbreviated dialing arrangements that allow telephone users to connect with a particular node in the network by dialing only three digits. There are only eight possible N11 codes, making N11 codes among the scarcest of numbering resources under our jurisdiction. Of the eight N11 codes available, the Commission has already assigned two for nationwide use, and has been directed by Congress to assign another. In addition, three other N11 codes are widely used by carriers across the country, but have not been assigned by the Commission for such nationwide use. Thus, at this time, the 211 and 511 codes are the only two N11 codes that can be assigned and deployed immediately.

2. The network must be pre-programmed to translate the three-digit code into the appropriate seven or ten-digit telephone number and route the call accordingly. Among abbreviated dialing arrangements, “N11” codes are three-digit codes of which the first digit can be any digit other than 1 or 0, and the last two digits are both 1.

3. Prior to the 1996 Act, incumbent local exchange carriers (LECs), state commissions, Bellcore and the Commission performed the functions relating to numbering administration, including administration of abbreviated dialing codes. Section 251(e) of the Communications Act of 1934, as amended by the Telecommunications Act of 1996 (1996 Act), gives the Commission exclusive jurisdiction over numbering administration, and over those portions of the North American Numbering Plan (NANP) that pertain to the United States. This section also provides that the Commission may delegate all or part of its numbering administration authority to state commissions or other entities. In 1992, the Commission adopted a Notice of Proposed Rulemaking (N11 NPRM), 7 FCC Rcd 3004, proposing that incumbent local exchange carriers be required to provide abbreviated dialing arrangements. Subsequent to the N11 NPRM, various parties asked the Commission to designate N11 codes to facilitate network access to Telecommunications Relay Service (TRS) for individuals with hearing or speech disabilities, to federal government services, to state government services, and to non-emergency police services.

4. In 1997, the Commission released the N11 First Report and Order and FNPRM, 12 FCC Rcd 5572, in which it authorized the incumbent LECs, states, and Bellcore to continue to perform N11 code administrative functions that they performed prior to the time of enactment of the 1996 Act. In the N11 First Report and Order and FNPRM, the Commission assigned 311 on a nationwide basis for non-emergency police services, but allowed existing non-compliant uses of 311 to continue until the local government in that area was prepared to activate a non-emergency police 311 service. In addition, at the discretion of local jurisdictions, the Commission allowed 311 to be used to access other government services, but declined to assign a separate N11 for this purpose. The Commission also granted the request for an N11 code to reach Telecommunications Relay Services (TRS), assigning 711 nationwide for this use. Finally, the Commission declined to: (1) Mandate that N11 numbers be made available for access to information services; (2) mandate that an N11 code be designated for access to federal government agencies; or (3) disturb the current uses of 911, 411, 611 and 811 for access to emergency services, directory assistance, and LEC repair and business offices, respectively.

5. The Commission in the N11 First Report and Order and FNRPM also requested comment on a number of issues. Specifically, the issues to be addressed related to deployment of TRS, the sale or transfer of N11 codes, and administration of N11 codes. Subsequently, several parties filed requests for reconsideration and/or clarification of certain matters discussed in the N11 First Report and Order and FNPRM. Specifically, the International Association of Fire Chiefs and International Municipal Signal Association (IAFC Petitioners) opposed any expanded use of N11 codes for non-emergency and commercial uses. BellSouth sought reconsideration and/or clarification regarding the status of non-conforming uses of N11 service codes, including 311 and 711, the “six-month” implementation requirement for 311, and requirements placed on CMRS providers with respect to handling 311 calls. It also sought clarification regarding incumbent LECs' obligations to provide 611 and 811 for access to repair and business offices.

6. The U.S. DOT and the Information and Referral Petitioners requested assignment of N11 codes to provide gateway access to travel information services and community service organizations, respectively. The U.S. DOT does not request a specific N11 dialing code, whereas the Information and Referral Petitioners seek assignment of 211, specifically, for their proposal. Both petitioners contend that the provision of services using toll-free numbers or local numbers is not only inefficient, but limits the widespread use of travel information or community services information, and also limits the accessibility to these services. Both proposals enjoy widespread support from a variety of organizations, state and local governments, and other interested parties.

7. This Third Report and Order resolves issues raised in the petitions for reconsideration that relate to the manner in which N11 codes are assigned, and grants the two petitions for assignment of N11 codes filed by the U.S. DOT and the Information and Referral Petitioners. Issues raised in the N11 First Report and Order regarding the implementation of 711 are being addressed in the Second Report and Order. 15 FCC Rcd 15188. Similarly, the Commission will address matters dealing with designation of 911 as the national emergency number throughout the United States in a separate order.

8. In the Third Report and Order the Commission assigns abbreviated dialing code 511 to be used for access to traveler information services, and assign the abbreviated dialing code 211 to be used for access to community information and referral services. The Commission believes that these two proposals meet the “pubic interest” standards for assignment of N11 codes established in the N11 First Report and Order, and this need is demonstrated by the wide support for the two petitions. Both petitioners propose to provide access to their services without an additional charge to callers, and each has demonstrated that its service provides a substantial public benefit. The Commission denied petitions for reconsideration of the N11 First Report and Order filed by the International Association of Fire Chiefs and International Municipal Signal Association (IAFC Petitioners) and BellSouth. The Commission also resolved issues raised in the N11 FNPRM, and concluded that the sale or transfer of N11 codes through private transactions should not be allowed at this time. The Commission also concluded that the Commission should continue to make assignments of N11 codes, rather than delegate this authority to the North American Numbering Plan Administrator (NANPA) or any other entity.

9. Several commenters contended that the Commission should initiate a comprehensive review of our rules and practices relating to abbreviated dialing arrangements, due in part to the “competing” petitions, and other existing users. We decline, at this time, to do so because we find such a rulemaking proceeding to be unnecessary. In this Third Report and Order, we resolve issues that pertain to the two pending requests for assignment of N11 codes. With the exception of one outstanding petition, we also have resolved in this Order Third Report and Order most of the outstanding issues relating to the N11 proceeding. We also note that in the three-year period following the N11 First Report and Order, we have received only two petitions for assignment of the remaining N11 codes, both of which are resolved in this Order, and both had overwhelming support. We therefore decline to initiate a rulemaking and review of Commission rules and practices relating to abbreviated dialing codes at this time.

Regulatory Flexibility Act

10. As required by the Regulatory Flexibility Act (RFA), an Initial Regulatory Flexibility Analysis (IRFA) was incorporated into the N11 First Report and Order and FNPRM. The Commission sought written public comment on the proposals in the N11 First Report and Order, including comment on the IRFA. The IRFA requested written public comment on two issues: (1) The technical feasibility of implementing 711 access for telecommunications relay services and (2) the proprietary nature of N11 codes and the transfer of the administration of N11 codes.

11. The first issue concerning the technical feasibility of implementing 711 access is being addressed in a companion proceeding captioned the Second Report and Order. Therefore, the Commission did not address that issue in this proceeding. The second issue concerning the sale or transfer of N11 codes and the administration of N11 is addressed in this proceeding. We conclude that the sale or transfer of the N11 codes through private transactions should not be allowed at this time, and that the Commission should continue to make assignments of N11 codes, rather than delegate this authority to another entity. Therefore, we decline to make any revisions or modifications to our rules at this time. The RFA requires that a Final Regulatory Flexibility Analysis (FRFA) be completed “[w]hen an agency promulgates a final rule * * * ”. 5 U.S.C. 604(a). Because we are not adopting any new rules and are not making any changes to existing rules, a FRFA is not required.

Ordering Clauses

12. Accordingly, it is ordered, pursuant to Sections 1, 4(i), and 251(e)(1) of the Communications Act of 1934, as amended, 47 U.S.C. 151, 154(i), and 251(e)(1), that this Third Report and Order and Order on Reconsideration is hereby adopted.

13. The Petition for assignment of an N11 for access to travel information services filed by the U.S. Department of Transportation is granted, and that the Petition for assignment of 211 for access to community information and referral services filed by the Information and Referral providers is granted.

14. The Petitions for Reconsideration and/or Clarification filed by Arch, BellSouth, Interactive Services Association, and International Association of Fire Chiefs and International Municipal Signal Association are denied.

15. 511 is assigned as a national abbreviated dialing code to be used exclusively for access to travel information services as of the effective date of this Third Report and Order.

16. That 211 is assigned as a national abbreviated dialing code to be used for access to community information and referral services as of the effective date of this Third Report and Order.

Federal Communications Commission.
Shirley Suggs,
Chief, Publications Branch.

[FR Doc. 01-3324 Filed 2-8-01; 8:45 am]

BILLING CODE 6712-01-P